DEPARTMENT OF THE TREASURY

Internal Revenue Service

26 CFR Part 1

[REG-143453-05]

RIN 1545-BE96

Capital Costs Incurred To Comply With EPA Sulfur Regulations; Hearing Cancellation

AGENCY: Internal Revenue Service (IRS), Treasury.

ACTION: Cancellation of notice of public hearing on proposed rulemaking by cross-reference to temporary regulations.

SUMMARY: This document cancels a public hearing on proposed rulemaking by cross-reference to temporary regulations under section 179B of the Internal Revenue Code (Code) relating to the deduction of qualified capital costs paid or incurred by a small business refiner to comply with the highway diesel fuel sulfur control requirements of the Environmental Protection Agency.

DATES: The public hearing, originally scheduled for October 28, 2008 at 10 a.m. is cancelled.

FOR FURTHER INFORMATION CONTACT: Funmi Taylor of the Publications and Regulations Branch, Legal Processing Division, Associate Chief Counsel (Procedure and Administration) at (202) 622-3628 (not a toll-free number).

SUPPLEMENTARY INFORMATION: A notice of proposed rulemaking by cross-reference to temporary regulations and a notice of public hearing that appeared in the Federal Register on Friday, June 27, 2008 (73 FR 36475) announced that a public hearing was scheduled for October 28, 2008, at 10 a.m. in the IRS Auditorium, Internal Revenue Building, 1111 Constitution Avenue, NW., Washington, DC. The subject of the public hearing is under section 179B of the Internal Revenue Code.

The public comment period for these regulations expired on September 25, 2008. Outlines of topics to be discussed at the hearing were due on September 22, 2008. The notice of proposed rulemaking by cross-reference to temporary regulations and notice of public hearing instructed those interested in testifying at the public hearing to submit an outline of the topics to be addressed. As of Tuesday, September 30, 2008, no one has requested to speak. Therefore, the public hearing scheduled for October 28, 2008, is cancelled.

Guy Traynor,
Federal Register Liaison, Publications and Regulations Branch, Legal Processing Division, Associate Chief Counsel, (Procedure and Administration).

[FR Doc. E8-23656 Filed 10-6-08; 8:45 am]

BILLING CODE 4830-01-P